DEPARTMENT OF HOMELAND SECURITY

Coast Guard

33 CFR Part 150

[USCG-2005-21111]

RIN 1625-AA00

Safety Zone; Gulf Gateway Deepwater Port, Gulf of Mexico

AGENCY: Coast Guard, DHS.

ACTION: Interim rule; request for comments.

SUMMARY: The Coast Guard is establishing an interim safety zone around the primary component of the Gulf Gateway Deepwater Port, Gulf of Mexico, and its accompanying systems. The purpose of this safety zone is to protect vessels and mariners from the potential safety hazards associated with deepwater port operations. All vessels, with the exception of deepwater port support vessels, are prohibited from entering into or moving within this safety zone.

DATES: This interim rule is effective May 11, 2005. Comments and related material must reach the Docket Management Facility on or before July 11, 2005.

ADDRESSES: Documents indicated in this preamble as being available in the docket, are part of docket [USCG-2005-21111]. Docket information can be examined on the Department of Transportation docket management system Web site at http://dms.dot.gov.

FOR FURTHER INFORMATION CONTACT: If you have questions on this rule, call Lieutenant Commander (LCDR) Kevin Tone, Coast Guard Office of Operating and Environmental Standards, at (202) 267-0226, e-mail: ktone@comdt.uscg.mil. If you have questions on viewing the docket, call Andrea M. Jenkins, Program Manager, Docket Operations, telephone 202-366-0271.

SUPPLEMENTARY INFORMATION:

Public Participation and Request for Comments

We encourage you to participate in this rulemaking by submitting comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this rulemaking (USCG-2005-21111), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this rule in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Regulatory Information

We did not publish a notice of proposed rulemaking (NPRM) for this rulemaking. Under 5 U.S.C. 553(b)(B), the Coast Guard finds that good cause exists for not publishing an NPRM. Publishing an NPRM and delaying its effective date would be contrary to the public interest, since there is not sufficient time to publish a proposed rule in advance of the next transfer operation and immediate action is needed to protect persons and vessels against the hazards associated with deepwater port operations.

Under 5 U.S.C. 553(d)(3), the Coast Guard finds that good cause exists for making this rule effective less than 30 days after publication in the Federal Register. While there is a 60 day public comment period, delaying its effective date would be contrary to public interest since immediate action is needed to respond to the potential hazards posed to local marine traffic and personnel involved in maritime operations by deepwater port operations.

Background and Purpose

The Gulf Gateway Deepwater Port (DWP) is located approximately 116 miles off the Louisiana coast at West Cameron Area, South Addition Block 603 “A”, 28°05′16″ N, 093°03′07″ W. The DWP operator plans to offload liquefied natural gas (LNG) vessels by regasifying the LNG on board vessels. The regasified natural gas is then transferred through a submerged loading turret buoy (STL), to a flexible riser leading to a seabed pipeline to a metering platform. From the platform the natural gas feeds into two separate downstream seabed pipelines to connect with the Southeastern United States natural gas network. In order to improve safety and security at the port while regasification and transfer operations are occurring, several routing measures have been implemented. In July 2004, the Coast Guard forwarded a proposal to the International Maritime Organization (IMO) requesting the establishment of an Area To Be Avoided (ATBA) and a mandatory No Anchoring Area for the Excelerate Gulf Gateway (formerly the El Paso Energy Bridge) deepwater port. These two routing measures will promote safety, security, and vessel traffic management in the vicinity of the DWP.

The ATBA has a radius of 2 nautical miles, is recommendatory in nature and does not restrict vessels from transiting the area. However vessel operators are strongly urged to seek alternate routes outside the ATBA and away from the DWP. The No Anchoring Area has a radius of one and one half nautical miles from the STL buoy and compliance is mandatory. It is required to protect the anchoring system securing the port and vessels from potential damage by sub-surface fishing operations (e.g., trawling). These routing measures were adopted by IMO in December 2004 and will be implemented on July 1, 2005. A safety zone is an additional measure, intended to augment the routing measures cited in the previous paragraph. The safety zone is needed to protect the deepwater port, and other vessels and mariners from the potential safety hazards associated with LNG operations while an LNG vessel is moored at the port.

Discussion of Rule

The Coast Guard is establishing an interim safety zone 500 meters around the Gulf Gateway Deepwater Port described above. All unauthorized vessels are prohibited from entering into or moving within this safety zone.

This rule is effective upon publication in the Federal Register.

Regulatory Evaluation

This rule is not a “significant regulatory action” under section 3(f) of Executive Order 12866 and does not require an assessment of potential costs and benefits under section 6(a)(3) of that Order. The Office of Management and Budget has not reviewed it under that Order.

This safety zone is encompassed within a circle that extends out only 500 meters from the center point, and is located approximately 116 miles off the coast of Louisiana, so the impacts on routine navigation are expected to be minimal.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit the high seas in the vicinity of the deepwater port. The impact on small entities is expected to be minimal for the reasons enumerated in the Regulatory Evaluation section of this rule.

If you are a small business entity and are significantly affected by this regulation please contact Lieutenant Commander (LCDR) Kevin Tone, Coast Guard Office of Operating and Environmental Standards, at (202) 267-0226.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency?s responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under the Commandant Instruction M16475.1D, which guides the Coast Guard in complying with the National Environmental Policy Act of 1969 (NEPA) (4321-4370f).

NEPA sets forth a national policy that encourages and promotes productive harmony between man and the environment. NEPA procedures require that environmental information is available to public officials and citizens before decisions are made and before actions are taken. The NEPA process is intended to help public officials to make decisions that are based on an understanding of environmental consequences and take actions that protect, restore and/or enhance the environment.

The USCG and the MARAD are responsible for processing license applications to own, construct, and operate deepwater ports. To meet the requirements of NEPA, the Coast Guard prepared an Environmental Assessment (EA) for this deepwater port project.

The EA assessed the potential environmental impacts associated with the installation, and operation of the deepwater port, the offshore pipelines and the future decommissioning of the deepwater port. The EA also assessed the alternatives considered for the deepwater port location, type of port (e.g., fixed or mobile structure), offshore pipelines as well as alternative technologies.

The primary purposes of the EA were to:

(1) Provide an environmental analysis sufficient to support the Maritime Administrator's licensing decisions;

(2) Facilitate a determination of whether the Applicant has demonstrated that the Proposed Deepwater Port would be located, constructed, operated, and decommissioned in a manner that represents the best available technology necessary to prevent or minimize any adverse effects on marine, coastal, and onshore environments;

(3) Aid the USCG's and the MARAD's compliance with National Environmental Policy Act (NEPA); and

(4) Facilitate public involvement in the decision-making process.

The final EA is available in the docket where indicated under ADDRESSES.

List of Subjects in 33 CFR Part 150

Harbors, Marine safety, Navigation (water), Occupational safety and health, Oil pollution, Reporting and recordkeeping requirements.

For the reasons discussed in the preamble, the Coast Guard amends 33 CFR part 150 as follows:

PART 150—DEEPWATER PORTS: OPERATIONS

1. The authority citation for part 150 continues to read as follows:

Authority: 33 U.S.C. 1231, 1321(j)(1)(C), (j)(5), (j)(6), (m)(2); 33 U.S.C. 1509(a); E.O. 12777, sec. 2; E.O. 13286, sec. 34, 68 FR 10619; Department of Homeland Security Delegation No. 0170.1(70), (73), (75), (80).

2. Add § 150.940(b) to read as follows:

§ 150.940 Safety zones for specific deepwater ports.

* * * * *

(b) The Gulf Gateway Deepwater Port (GGDWP)

(1) Description. The GGDWP safety zone is centered at the following coordinates: 28°05′16″ N, 093°03′07″ W. This safety zone, encompassed within a circle having a 500 meter radius around the primary component of the Gulf Gateway Deepwater Port, the submerged loading turret (buoy) and the pipeline end manifold (STL/PLEM), is located approximately 116 miles off the Louisiana coast at West Cameron Area, South Addition Block 603 “A”.

(2) Regulations. Deepwater port support vessels desiring to enter the safety zone must contact and obtain permission from the LNG Regasification Vessel (LNGRV) stationed at the deepwater port. The LNGRV can be contacted on VHF-FM Channel 13.

Dated: May 4, 2005.
B.M. Salerno,
Captain, U.S. Coast Guard, Acting Assistant Commandant for Marine, Safety, Security & Environmental Protection.

[FR Doc. 05-9432 Filed 5-6-05; 4:09 pm]

BILLING CODE 4910-15-P